DEPARTMENT OF ENERGY

Federal Energy Regulatory Commission

[Docket Nos. EL12-37-000; QF86-36-006]

PowerSmith Cogeneration Project, LP; Notice of Request for Waiver

Take notice that on February 27, 2012, pursuant to section 292.205(c) of the Federal Energy Regulatory Commission's (Commission) Rules of Practice and Procedure implementing the Public Utility Regulatory Policies Act of 1978 (PURPA), as amended, 18 CFR 292.205(c), PowerSmith Cogeneration Project, LP (PowerSmith) filed a Request for Waiver, for calendar year 2011, of the operating standard set forth in section 292-205(a)(1) of the Commission's Regulations for the topping-cycle cogeneration facility owned and operated by PowerSmith located in Oklahoma. PowerSmith makes such a request because of a delay in certain major capital improvements.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street NE., Washington, DC 20426.

This filing is accessible on-line at http://www.ferc.gov, using the “eLibrary” link and is available for review in the Commission's Public Reference Room in Washington, DC. There is an “eSubscription” link on the web site that enables subscribers to receive email notification when a document is added to a subscribed docket(s). For assistance with any FERC Online service, please email or call (866) 208-3676 (toll free). For TTY, call (202) 502-8659.

Comment Date: 5 p.m. Eastern Time on March 28, 2012.

Dated: February 29, 2012.
Kimberly D. Bose,
Secretary.

[FR Doc. 2012-5466 Filed 3-6-12; 8:45 am]

BILLING CODE 6717-01-P